ENVIRONMENTAL PROTECTION AGENCY

40 CFR Part 52

[CA 169-0272b; FRL-7100-7]

Revisions to the California State Implementation Plan, San Joaquin Valley Unified Air Pollution Control District and South Coast Air Quality Management District

AGENCY: Environmental Protection Agency (EPA).

ACTION: Proposed rule.

SUMMARY: EPA is proposing to approve revisions to the San Joaquin Valley Unified Air Pollution Control District (SJVUAPCD), and South Coast Air Quality Management District (SCAQMD) portions of the California State Implementation Plan (SIP). These revisions concern volatile organic compound (VOC) and oxides of nitrogen ( NOX) emissions from equipment tuning procedure for boilers, steam generators, and process heaters, pumps and compressor seals at petroleum refineries and chemical plants, and residential type, natural gas-fired water heaters. We are proposing to approve local rules to regulate these emission sources under the Clean Air Act as amended in 1990 (CAA or the Act).

DATES: Any comments on this proposal must arrive by December 17, 2001.

ADDRESSES: Mail comments to Andy Steckel, Rulemaking Office Chief (AIR-4), U.S. Environmental Protection Agency, Region IX, 75 Hawthorne Street, San Francisco, CA 94105-3901.

You can inspect copies of the submitted SIP revision and EPA's technical support documents (TSDs) at our Region IX office during normal business hours. You may also see copies of the submitted SIP revisions at the following locations:

California Air Resources Board, Stationary Source Division, Rule Evaluation Section, 2020 “L” Street, Sacramento, CA 95812

San Joaquin Valley Unified Air Pollution Control District, 1990 E. Gettysburg, Fresno, CA 93726

South Coast Air Quality Management District, 21865 E. Copley Dr. Diamond Bar, CA 91765-4182

FOR FURTHER INFORMATION CONTACT: Charnjit Bhullar, Rulemaking Office (AIR-4), U.S. Environmental Protection Agency, Region IX, (415) 744-1153.

SUPPLEMENTARY INFORMATION: This proposal addresses the following local rules: SJVUAPCD Rule 4304, Equipment Tuning Procedure for Boilers, Steam Generators, and Process Heaters, SJVUAPCD Rule 4452, Pumps and Compressor Seals at Petroleum Refineries and Chemical Plants, and SCAQMD Rule 1121, Control of Nitrogen Oxides from Residential Type, Natural Gas-fired Water Heaters. In the Rules and Regulations section of this Federal Register, we are approving the local rules in a direct final action without prior proposal because we believe these SIP revisions are not controversial. If we receive adverse comments, however, we will publish a timely withdrawal of the direct final rule and address the comments in subsequent action based on this proposed rule. We do not plan to open a second comment period, so anyone 3 interested in commenting should do so at this time. If we do not receive adverse comments, no further activity is planned. For further information, please see the direct final action.

Dated: October 22, 2001.
Wayne Nastri,
Regional Administrator, Region IX.

[FR Doc. 01-28344 Filed 11-15-01; 8:45 am]

BILLING CODE 6560-50-P